DEPARTMENT OF HEALTH AND HUMAN SERVICES

Centers for Disease Control and Prevention

[30Day-18-17ADT]

Agency Forms Undergoing Paperwork Reduction Act Review

In accordance with the Paperwork Reduction Act of 1995, the Centers for Disease Control and Prevention (CDC) has submitted the information collection request titled “Who's at Risk: From Hazards to Communities—An Approach for Operationalizing CDC Guidelines to Determine Risks, and Define, Locate, and Reach At-Risk Populations in Public Health Emergencies” to the Office of Management and Budget (OMB) for review and approval. CDC previously published a “Proposed Data Collection Submitted for Public Comment and Recommendations” notice on May 18, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Who's at Risk: From Hazards to Communities—An Approach for Operationalizing CDC Guidelines to Determine Risks, and Define, Locate, and Reach At-Risk Populations in Public Health Emergencies—New—Office of Public Health Preparedness and Response (OPHPR), Centers for Disease Control and Prevention (CDC).

Background and Brief Description

The Risk Assessment, Mapping, and Planning (RAMP) tool is currently being developed by CDC for public health and medical emergency planners (especially Public Health Emergency Preparedness and Hospital Preparedness Program awardees) to assess and quantify risk, identify and map at-risk populations, and to determine response objectives for hazard-specific public health emergency plans at all jurisdictional levels in the United States.

To assist in developing this tool, CDC will conduct key informant interviews/focus groups with public health and emergency management professionals from across the United States. To understand the needs of at-risk populations, CDC will also administer an anonymous survey to respondents from Los Angeles County Department of Public Health clinics.

CDC seeks to obtain subject matter expertise and feedback for pilot testing the RAMP tool and anonymous demographic information from LA County DPH clinic guests. CDC will use the data to develop the RAMP tool.

Public health and emergency manager respondents in pre-identified partner jurisdictions will participate in the interview and focus groups.

CDC will offer Los Angeles Department of Public Health Clinic guests the Community Emergency Preparedness Survey in order to determine community perspectives on several emergency preparedness and response topics. CDC will offer the Community Emergency Preparedness Survey anonymously to three separate types of community members: LA County Public Health Center Clients, LA County Community Partner Stakeholders, and LA County Community Residents.

CDC will collect information with the use of paper surveys. CDC will enter the information from the paper survey into a secured database. CDC will lock all paper surveys in the secure offices of the Los Angeles County Department of Public Health Emergency Preparedness and Response Division. CDC will disseminate and report results in aggregate form only. The total number of estimated annual burden hours is 226. There are no costs to the respondents other than their time.

Estimated Annualized Burden Hours
Type of respondents | Form name | Number of respondents | Number of responses per respondent | Average burden per response (in hours)
Public Health and Medical Emergency Planners | Focus Group Questionnaire | 100 | 1 | 1
LA County Public Health Center Guests | Community Emergency Preparedness Survey | 500 | 1 | 5/60
LA County Community Partner Stakeholders | Community Emergency Preparedness Survey | 500 | 1 | 5/60
LA County Community Residents | Community Emergency Preparedness Survey | 500 | 1 | 5/60

Leroy A. Richardson,
Chief, Information Collection Review Office, Office of Scientific Integrity, Office of the Associate Director for Science, Office of the Director, Centers for Disease Control and Prevention.

[FR Doc. 2017-24313 Filed 11-7-17; 8:45 am]

BILLING CODE 4163-18-P